DEPARTMENT OF THE TREASURY

Fiscal Service

Fee Schedule for the Transfer of U.S. Treasury Book-Entry Securities Held on the National Book-Entry System

AGENCY: Bureau of the Public Debt, Fiscal Service, Department of the Treasury.

ACTION: Notice.

SUMMARY: The Department of the Treasury is announcing a new fee schedule for the transfer of book-entry securities maintained on the National Book-Entry System (NBES). This fee schedule will take effect on January 2, 2007. The basic fee for the transfer of a Treasury book-entry security will increase from $.22 to $.26. The Federal Reserve funds movement fee will increase from $.04 to $.05, resulting in a combined fee of $.31 for each Treasury securities transfer.

In addition to the basic fee, off-line transfers have a surcharge. The surcharge for an off-line Treasury book-entry transfer in CY 2007 will be $33.00, unchanged from CY 2006.

DATES: Effective Date: January 2, 2007.

FOR FURTHER INFORMATION CONTACT: James Sharer, Government Securities Specialist, Bureau of the Public Debt, 799 9th Street, NW., Washington, DC 20239, telephone (202) 504-3658.

Kristina Yeh, Financial Systems Analyst, Bureau of the Public Debt, 799 9th Street, NW., Washington, DC 20239, telephone (202) 504-3679.

Ed Errigo, Financing Specialist, Bureau of the Public Debt, 799 9th Street, NW., Washington, DC 20239, telephone (202) 504-3611.

Terri Roddy, Financial Systems Analyst, Bureau of the Public Debt, 200 3rd Street, Room 527, Parkersburg, WV 26106, telephone (304) 480-6035.

SUPPLEMENTARY INFORMATION: On October 1, 1985, the Department of the Treasury established a fee structure for the transfer of Treasury book-entry securities maintained on NBES.

Based on the latest review of book-entry costs and volumes Treasury will increase its basic fee from the current levels in effect. Effective January 2, 2007, the basic fee will increase from $.22 to $.26 for each Treasury securities transfer and reversal sent and received, changed from fees in effect since CY 2006. The surcharge for an off-line Treasury book-entry transfer will be $33.00, unchanged from CY 2006.

The basic transfer fee assessed to both sends and receives is reflective of costs associated with the processing of a security transfer. The off-line surcharge reflects the additional processing costs associated with the manual processing of off-line securities transfers.

The Treasury does not charge a fee for account maintenance, the stripping and reconstitution of Treasury securities, or the wires associated with original issues, or interest and redemption payments. The Treasury currently absorbs these costs and will continue to do so.

The fees described in this notice apply only to the transfer of Treasury book-entry securities held on NBES. Information concerning book-entry transfers of government Agency securities, which are priced by the Federal Reserve System, is set out in a separate Federal Register notice published by the Board of Governors of the Federal Reserve System on November 22, 2006, Docket No. OP-1269.

The following is the Treasury fee schedule that will take effect on January 2, 2007, for the book-entry transfers on NBES:

TREASURY-NBES FEE SCHEDULE ¹
Effective January 2, 2007 (In Dollars)
Transfer type | Basic fee | Off-line surcharge | Funds ² movement fee | Total fee
On-line transfer originated | .26 | N/A | .05 | .31
On-line transfer received | .26 | N/A | .05 | .31
On-line reversal transfer originated | .26 | N/A | .05 | .31
On-line reversal transfer received | .26 | N/A | .05 | .31
Off-line transfer originated | .26 | 33.00 | .05 | 33.31
Off-line transfer received | .26 | 33.00 | .05 | 33.31
Off-line account switch received | .26 | .00 | .05 | .31
Off-line reversal transfer originated | .26 | 33.00 | .05 | 33.31
Off-line reversal transfer received | .26 | 33.00 | .05 | 33.31
¹ The Treasury does not charge a fee for account maintenance, the stripping and reconstituting of Treasury securities, or the wires associated with original issues, or interest and redemption payments. The Treasury currently absorbs these costs and will continue to do so.
² The funds movement fee is not a Treasury fee, but is charged by the Federal Reserve for the cost of moving funds associated with the transfer of a Treasury book-entry security.

Authority: 31 CFR 357.45.

Dated: September 20, 2006.
Donald V. Hammond,
Fiscal Assistant Secretary.

[FR Doc. E6-19601 Filed 11-21-06; 8:45 am]

BILLING CODE 4810-39-P